DEPARTMENT OF JUSTICE

Antitrust Division

Notice Pursuant to the National Cooperative Research and Production Act of 1993—Mico-Optio-Electro-Mechnical Systems

Notice is hereby given that, on January 31, 2003, pursuant to section 6(a) of the National Cooperative Research and Production Act of 1993, 15 U.S.C. 4301 et seq. (“the Act)”, Micro-Opto-Electro-Mechanical Systems (MOEMS) has filed written notifications siumulaneously with the Attorney General and the Federal Trade Commission disclosing changes in its membership status. The notifications were filed for the purpose of extending the Act's provisions limiting the recovery of antitrust plaintiffs to actual damages under specified circumstances. Specifically, Corning Intellisense, Boston, MA has been added as a party to this venture. Also, Standard MEMS, Hauppauge, NY has been dropped as a party to this venture.

No other changes have been made in either the membership or planned activity of the group research project. Membership in this group research project remains open, and MOEMS intends to file additional written notification disclosing all changes in membership.

On December 29, 1998, MOEMS filed its original notification pursuant to section 6(a) of the Act. The Department of Justice published in a notice in the Federal Register pursuant to section 6(b) of the Act on March 19, 1999 (64 FR 13603).

The last notification was filed with the Department of August 3, 1999. A notice was published in the Federal Register pursuant to section 6(b) of the Act on March 21, 2000 (65 FR 15177).

Constance K. Robinson,
Director of Operations, Antitrust Division.

[FR Doc. 03-9292 Filed 4-15-03; 8:45 am]

BILLING CODE 4410-11-M